DEPARTMENT OF AGRICULTURE

Forest Service

Forestry Research Advisory Committee

AGENCY: Forest Service, Agriculture (USDA).

ACTION: Notice of meeting.

SUMMARY: The Forestry Research Advisory Committee (FRAC) will hold a public meeting according to the details shown below. The committee is authorized under the Agriculture and Food Act of 1981 (the Act) and operates in compliance with the Federal Advisory Committee Act. The purpose of this committee is to make recommendations to and advise the Secretary of Agriculture on forestry research. The Agriculture and Food Act directs the Secretary to appoint the FRAC, which advises on how to efficiently accomplish the purposes of the McIntire-Stennis Act of 1962. The FRAC focuses on developing and utilizing the Nation's forest resources, forestry schools, and forest industries. FRAC recommendations support states in carrying out a program of forestry research through land-grant colleges or agricultural experiment stations and other state-supported colleges and universities that offer graduate training in forestry. The FRAC also provides advice related to the Forest Service research program, which is authorized by the Forest and Rangeland Renewable Resources Research Act of 1978.

DATES: An in-person meeting will be held on November 21, 2024, from 12 p.m. to 5 p.m. and November 22, 2024, 9 a.m. to 4 p.m. Eastern Standard Time.

Written and Oral Comments: Anyone wishing to provide oral comments must pre-register by 11:59 p.m. Eastern Standard Time on November 13, 2024. Written public comments will be accepted by 11:59 p.m. Eastern Standard Time on November 13, 2024. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held in person at USDA Forest Service, Sidney R Yates Building, 201 14th Street SW, Washington, DC 20250 in the Yates Training Room. Committee information and meeting details can be found at the following website: https://www.fs.usda.gov/research/about/frac or by contacting the person listed under FOR FURTHER INFORMATION CONTACT.

Written Comments: Written comments must be sent by email to arthur.a.duggan@usda.gov or via mail (postmarked) to David Lytle, Research and Development 2NW, USDA Forest Service, 201 14th Street SW, Washington, DC 20250. The Forest Service strongly prefers comments be submitted electronically.

Oral Comments: Persons or organizations wishing to make oral comments must pre-register by 11:59 p.m. Eastern Standard Time, November 13, 2024, and speakers can only register for one speaking slot. Oral comments must be sent by email to arthur.a.duggan@usda.gov or via mail (postmarked) to David Lytle, Research and Development 2NW, USDA Forest Service, 201 14th Street SW, Washington, DC 20250.

FOR FURTHER INFORMATION CONTACT: Arthur Duggan, Jr., Science Quality Services Program Manager, by phone at (510) 542-0081 or email at arthur.a.duggan@usda.gov.

SUPPLEMENTARY INFORMATION: The purpose of the meeting is to:

1. Discuss questions Federal forestry researchers are addressing and how they are addressing them;

2. Discuss recommendations the FRAC can make to the Secretary of Agriculture to further forestry research advancements, and

3. Identify topics for future meetings.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken into account the needs of the diverse groups served by USDA, membership shall include, to the extent practicable, individuals with demonstrated ability to represent the many communities, identities, races, ethnicities, backgrounds, abilities, cultures, and beliefs of the American people, including underserved communities. USDA is an equal opportunity provider, employer, and lender.

Dated: October 16, 2024.
Cikena Reid,
USDA Committee Management Officer.

[FR Doc. 2024-24412 Filed 11-5-24; 8:45 am]

BILLING CODE 3411-15-P